COMMITTEE FOR PURCHASE FROM PEOPLE WHO ARE BLIND OR SEVERELY DISABLED

Public Meeting

AGENCY: Committee for Purchase From People Who Are Blind or Severely Disabled.

ACTION: Notice of public meeting.

SUMMARY: The Committee is announcing a public meeting to be held April 8, 2021.

DATES: Registration is due no later than: April 6, 2021.

ADDRESSES: Committee for Purchase From People Who Are Blind or Severely Disabled, 1401 S Clark Street, Suite 715, Arlington, Virginia 22202-4149.

FOR FURTHER INFORMATION CONTACT: For further information or to submit comments contact: Angela Phifer, Telephone: (703) 798-5873 or email CMTEFedReg@AbilityOne.gov.

SUPPLEMENTARY INFORMATION: This notice is published pursuant to 41 U.S.C. 8503(a)(2) and 41 CFR 51-2.3. Its purpose is to provide interested persons an opportunity to register to attend a public meeting.

Summary: This notice provides information to access and participate in the April 8, 2021 regular quarterly public meeting of the Committee for Purchase From People Who Are Blind or Severely Disabled, operating as the U.S. AbilityOne Commission (Commission), via webinar. The AbilityOne Program employs people who are blind or have significant disabilities through federal contracts. The Javits-Wagner-O'Day Act (41 U.S.C. Chapter 85) authorizes the contracts and established 15 Presidential appointees, including private citizens conversant with the employment interests and concerns of people who are blind or significantly disabled. Presidential appointees also include representatives of federal agencies. The public meetings include updates from the Commission and staff.

Date and Time: April 8, 2021, from 9:00 a.m. to 12:00 p.m., EDT.

Place: This meeting will occur via Zoom webinar.

Commission Statement: As the Commission implements new strategies and priorities, we are committed to public meetings that provide substantive information. These meetings also provide an opportunity for input from the disability community and other stakeholders. On April 8, 2021, the Commission will hold a listening session, and requests input on the following questions:

(1) How can the AbilityOne Program contribute to objectives of Executive Order 13985 on Advancing Racial Equity and Support for Underserved Communities Through the Federal Government? (The Executive Order includes people with disabilities, and may be accessed here: Executive Order On Advancing Racial Equity and Support for Underserved Communities Through the Federal Government | The White House).

(2) What future Commission meeting topics or presentations would members of the public like to see to better understand the AbilityOne Program?

(3) How can the Commission increase transparency in its administration of the AbilityOne Program and/or its own operations?

Registration: Attendees must register not later than 11:59 p.m. on Tuesday, April 6, 2021 EDT. The registration link will be accessible on the Commission's home page, www.abilityone.gov, not later than March 29, 2021. During registration, you may choose to make comments or a statement. Comments will be shared at the meeting, and speakers will be identified, based on registrations received.

Personal Information: Do not include any personally identifiable information that you do not want publicly disclosed—e.g., address, phone number or other contact information, or confidential business information.

For Further Information, Contact: Angela Phifer, (703) 798-5873.

The Commission is not subject to the requirements of 5 U.S.C. 552b; however, the Commission published this notice to encourage the broadest possible participation in its April 8, 2021 public meeting.

Michael R. Jurkowski,
Deputy Director, Business & PL Operations.

[FR Doc. 2021-06318 Filed 3-25-21; 8:45 am]

BILLING CODE 6353-01-P